DEPARTMENT OF THE INTERIOR

U.S. Geological Survey

[GX16MN00F1F1000]

Agency Information Collection; Submission to the Office of Management and Budget for Review and Approval; iCoast—Did the Coast Change?

AGENCY: United States Geological Survey (USGS), Interior.

ACTION: Notice of information collection; request for comment.

SUMMARY: We (the U.S. Geological Survey) are notifying the public that we have submitted to the Office of Management and Budget (OMB) the information collection request (ICR) described below. To comply with the Paperwork Reduction Act of 1995 (PRA), we are notifying the public that we will submit to OMB a new information collection (IC) for review and approval. This notice provides the public an opportunity to comment on the paperwork burden of this collection. This collection is scheduled to expire on September 30, 2017.

DATES: You must submit comment on or before October 23, 2017.

ADDRESSES: Please submit written comments on this information collection directly to the Office of Management and Budget (OMB), Office of Information and Regulatory Affairs, Attention: Desk Officer for the Department of the Interior, via email: (OIRA_SUBMISSION@omb.eop.gov); or by fax (202) 395-5806; and identify your submission with `OMB Control Number 1028-0109 iCoast—Did the Coast Change? Please also forward a copy of your comments and suggestions on this information collection to the Information Collection Clearance Officer, U.S. Geological Survey, gs-info_collections@usgs.gov (email). Please reference `OMB Information Collection 1028-0109 iCoast—Did the Coast Change? in all correspondence.

FOR FURTHER INFORMATION CONTACT: Laura Thompson, National Climate Change and Wildlife Science Center, U.S. Geological Survey, 12201 Sunrise Valley Drive, Mail Stop 400, Reston, VA 20192 (mail); 703-648-4083 (phone); or lthompson@usgs.gov (email). You may also find information about this ICR at www.reginfo.gov. SUPPLEMENTARY INFORMATION:

Title: iCoast—Did the coast change?

I. Abstract

The U.S. Geological Survey (USGS) and its collaborators (including the National Aeronautics and Space Administration, the U.S. Army Corps of Engineers, and university researchers) conduct sustained investigations of coastal hazards associated with major hurricane landfall. USGS hurricane research and response activities include collection of storm-surge water levels, aerial photography, and laser altimetry (lidar) surveys of pre- and post-storm beach conditions. These efforts document the nature, magnitude, and variability of costal changes such as beach erosion, overwash deposition, island breaching, and destruction of infrastructure. Predictive models and assessments of severe storm impacts are developed and evaluated, and probabilistic assessments are distributed to the public, local, State, and Federal agencies. The assessments and observations provide information needed to understand, prepare for, and respond to coastal disasters. These ongoing analyses are authorized by 42 U.S.C. 5201 et seq., The Disaster Relief Act of 1974, Section 202(a).

In support of this research, the USGS has been taking oblique aerial photographs of the coast before and after each major storm since 1996 and has amassed a database of over 190,000 photographs of the Gulf and Atlantic Coasts. Computers cannot yet automatically analyze these data because classifying this photography requires understanding the diversity of forms that even this small set of primary features (shore, beach, dune, marsh, built environment) can represent. Human intelligence is needed, and USGS does not have the personnel or the capacity for this. These oblique aerial photographs are currently used for broad overviews of damage, and selected photo pairs have been shared on the Internet with the public after storms. The intense interest by the public in the pre- and post-storm USGS photographic pairs, and the increasing use of citizen science and crowdsourcing by Federal Government agencies suggests that a significant segment of the public might volunteer to serve as our “eyes on the coast.” The iCoast—Did the Coast Change? Web site (hereafter referred to as iCoast) posts a suite of pre- and post-storm photographs from a major storm, and citizen scientists can compare photographs and classify the changes they see with predefined tags, or by appending comments. Citizen scientists also identify coastal landforms, determine the storm impacts to coastal infrastructure and landforms, and indicate other changes, including response and recovery efforts. These data can be used by USGS scientists to ground truth and fine-tune their models of coastal change. These mathematical models predict the likely interaction between coastal features such as beaches and dunes and storm surge. They are based on pre-storm dune height, measured by lidar, and predicted wave behavior based on data from the National Oceanic and Atmospheric Administration. They are not based on ground truth observations. A body of citizen observations will allow for more accurate predictions of vulnerability. These model predictions are typically shared with Federal, State, and local authorities both before and after storms. The project will also result in greater citizen awareness of the probabilities for coastal change, and will be a resource for teachers and students pursuing science, technology, engineering and math (STEM).

II. Data

OMB Control Number: 1028-0109.

Form Number: None.

Title: iCoast—Did the Coast Change?

Type of Request: Renewal of existing information collection.

Affected Public: Coastal scientists, coastal managers, marine science students, emergency managers, citizens/residents of coastal communities.

Respondent's Obligation: Participation is voluntary.

Frequency of Collection: Occasional.

Estimated Total Number of Annual Responses: 64,211 responses.

Estimated Time per Response: 3 minutes.

Estimated Annual Burden Hours: 3,211 hours.

Estimated Reporting and Recordkeeping “Non-Hour Cost” Burden: There are no “non-hour cost” burdens associated with this IC.

Public Disclosure Statement: The PRA (44 U.S.C. 3501, et seq.) provides that an agency may not conduct or sponsor and you are not required to respond to a collection of information unless it displays a currently valid OMB control number and current expiration date.

Comments: On July 6, 2017, we published a Federal Register notice (82 FR 31347) announcing that we would submit this ICR to OMB for approval and soliciting comments. The comment period closed on September 5, 2017. We received no comments.

III. Request for Comments

We again invite comments concerning this ICR as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that comments submitted in response to this notice are a matter of public record. Before including your personal mailing address, phone number, email address, or other personally identifiable information in your comment, you should be aware that your entire comment, including your personally identifiable information, may be made publicly available at any time. While you can ask us and the OMB in your comment to withhold your personal identifying information from public review, we cannot guarantee that we will be able to do so.

IV. Authority

The authorities for this action are Paperwork Reduction Act of 1995 (44 U.S.C. 3501 et seq.).

Christopher Reich,
Deputy Center Director, USGS St Petersburg Coastal and Marine Science Center.

[FR Doc. 2017-20188 Filed 9-21-17; 8:45 am]

BILLING CODE 4338-11-P